DEPARTMENT OF HOMELAND SECURITY

Federal Emergency Management Agency

[Docket ID FEMA-2017-0020]

Assistance to Firefighters Grant Program; Fire Prevention and Safety Grants

AGENCY: Federal Emergency Management Agency, DHS.

ACTION: Notice of guidance.

SUMMARY: This Notice provides guidelines that describe the application process for grants and the criteria the Federal Emergency management Agency (FEMA) will use for awarding Fire Prevention and Safety (FP&S) grants in the fiscal year (FY) 2016 Assistance to Firefighters Grant (AFG) Program year. It explains the differences, if any, between these guidelines and those recommended by representatives of the Nation's fire service leadership during the annual Criteria Development meeting, which was held November 9-10, 2015. The application period for the FY 2016 FP&S Grant Program year will be held April 17-May 19, 2017, and will be announced on the AFG Web site (www.fema.gov/firegrants), www.grants.gov, and U.S. Fire Administration Web site (www.usfa.fema.gov).

DATES: Grant applications for the FP&S Grant Program will be accepted electronically at https://portal.fema.gov, from April 17 at 8:00 a.m. EST—May 19 at 5:00 p.m. EST, 2017.

ADDRESSES: Assistance to Firefighters Grants Branch, DHS/FEMA, 400 C Street SW., 3N, Washington, DC 20472-3635.

FOR FURTHER INFORMATION CONTACT: Catherine Patterson, Chief, Assistance to Firefighters Grants Branch, 1-866-274-0960.

SUPPLEMENTARY INFORMATION: The purpose of the AFG Program is to enhance the safety of the public and firefighters with respect to fire and fire-related hazards. The FEMA Grant Programs Directorate administers the FP&S Grant Program as part of the AFG Program.

FP&S Grants are offered to support projects in two activities:

1. Activities designed to reach high-risk target groups and mitigate the incidence of death and injuries caused by fire and fire-related hazards (“FP&S Activity”).

2. Projects aimed at improving firefighter safety, health and wellness through research and development that reduces firefighter fatalities and injuries (“R&D Activity”).

The grant program's authorizing statute requires that each year DHS publish in the Federal Register the guidelines that describe the application process and the criteria for grant awards. Approximately 1,000 applications for FP&S Grant Program funding are anticipated to be submitted electronically, using the application submission form and process available at the AFG e-Grant application portal: https://portal.fema.gov. Specific information about the submission of grant applications can be found in the FY 2016 Fire Prevention and Safety Program Notice of Funding Opportunity (NOFO), which will be available for download at www.fema.gov/firegrants and at www.regulations.gov under Docket ID FEMA-2017-0020.

Appropriations

Congress appropriated $345,000,000 for AFG in FY 2016 pursuant to the Department of Homeland Security Appropriations Act, 2016, Public Law 114-113. From this amount, $34,500,000 will be made available for FP&S Grant awards, pursuant to 15 U.S.C. 2229(h)(5), which states that not less than 10 percent of available grant funds each year are awarded under the FP&S Grant Program. Funds appropriated for all FY 2016 AFG awards, pursuant to Public Law 114-113 will be available for obligation and award until September 30, 2017.

From the approximately 1,000 applications that will be requesting assistance, FEMA anticipates that it will award approximately 100 FP&S Grants from available grant funding.

Background of the AFG Program

DHS awards grants on a competitive basis to the applicants that best address the FP&S Grant Program's priorities and provide the most compelling justification. Applications that best address the Program's priorities will be reviewed by a panel composed of fire service personnel.

Award Criteria

All applications for grants will be prepared and submitted through the AFG e-Grant application portal (https://portal.fema.gov).

The FP&S Grant Program panels will review the applications and score them using the following criteria areas:

• Vulnerability

• Implementation

• Evaluation Plan

• Cost Benefit

• Financial Need

• Funding Priorities

• Experience and Expertise

The applications submitted under the R&D Activity will be reviewed first by a panel of fire service members to identify those applications most relevant to the fire service. The following evaluation criteria will be used for this review:

• Purpose

• Potential Impact

• Implementation by the fire service

• Partners

• Barriers

The applications that are determined most likely to be implemented to enable improvement in firefighter safety, health, or wellness will be deemed to be in the “competitive range” and will be forwarded to the second level of application review, which is the scientific panel review process. This panel will be comprised of scientists and technology experts who have expertise pertaining to the subject matter of the proposal.

The Scientific Technical Evaluation Panel for the R&D Activity will review the application and evaluate it using the following criteria:

• Project purpose(s), goals and objectives, and specific aims

• Literature Review

• Project Methods

• Project Measurements

• Project Analysis

• Dissemination and Implementation

• Cost vs. Benefit (additional consideration)

• Financial Need (additional consideration)

Eligible Applicants

The following entities are eligible to apply directly to FEMA under this solicitation:

1. Fire Prevention and Safety (FP&S) Activity: Eligible applicants for this activity include fire departments, national, regional, state, local, tribal, and nonprofit organizations that are recognized for their experience and expertise in fire prevention and safety programs and activities. Both private and public non-profit organizations are eligible to apply for funding in this activity. For-profit organizations, federal agencies, and individuals are not eligible to receive a FP&S Grant Award under the FP&S Activity.

2. Firefighter Safety Research and Development (R&D) Activity: Eligible applicants for this activity include national, state, local, tribal, and nonprofit organizations, such as academic (e.g., universities), public health, occupational health, and injury prevention institutions. Both private and public non-profit organizations are eligible to apply for funding in this activity.

The aforementioned entities are encouraged to apply, especially those that are recognized for their experience and expertise in firefighter safety, health, and wellness research and development activities. Fire departments are not eligible to apply for funding in the R&D activity. Additionally, for-profit organizations, federal agencies, and individuals are not eligible to receive a grant award under the R&D Activity.

Statutory Limits to Funding

Applications and awards are limited to a maximum federal share of $1.5 million dollars, regardless of applicant type.

Cost Sharing

Grant recipients must share in the costs of the projects funded under this grant program as required by 15 U.S.C. 2229(k)(1) and in accordance with 2 CFR 200.101(b)(1), but they are not required to have the cost-share at the time of application nor at the time of award. However, before a grant is awarded, FEMA will contact potential awardees to determine whether the grant recipient has the funding in hand or if the grant recipient has a viable plan to obtain the funding necessary to fulfill the cost-sharing requirement.

In general, an eligible applicant seeking an FP&S grant to carry out an activity shall agree to make available non-federal funds to carry out such activity in an amount equal to, and not less than, five percent of the grant awarded. Cash match and in-kind matches are both allowable in the FP&S Grant Program. Cash (hard) matches include non-federal cash spent for project-related costs. In-kind (soft) matches include, but are not limited to, the valuation of in-kind services. In-kind is the value of something received or provided that does not have a cost associated with it. For example, where an in-kind match (other than cash payments) is permitted, then the value of donated services could be used to comply with the match requirement. Also, third party in-kind contributions may count toward satisfying match requirements provided the grant recipient receiving the contributions expends them as allowable costs in compliance with provisions listed above.

Grant recipients under this grant program must also agree to a maintenance of effort requirement as required by 15 U.S.C. 2229(k)(3) (referred to as a “maintenance of expenditure” requirement in that statute). Per this requirement, a grant recipient shall agree to maintain during the term of the grant, the grant recipient's aggregate expenditures relating to the activities allowable under the FP&S NOFO at not less than 80 percent (80%) of the average amount of such expenditures in the two (2) fiscal years preceding the fiscal year in which the grant amounts are received.

In cases of demonstrated economic hardship, and on the application of the grant recipient, the Administrator of FEMA may waive or reduce certain grant recipient's cost share or maintenance of expenditure requirements. This policy applies to FP&S per § 33 of the Federal Fire Prevention and Control Act of 1974 (Pub. L. 93-498, as amended) (15 U.S.C § 2229). For complete requirements concerning these waivers, including a description of how a grant recipient may demonstrate economic hardship and apply for a waiver, please refer to FEMA Policy FP 207-088-01, dated April 8, 2014, at: http://www.fema.gov/media-library-data/1398109239435-ec23997d8351382710896fa77d02bc7d/AFG+Economic+Hardship+Waiver+Policy.pdf. Per 15 U.S.C. 2229(k)(4)(C), FP&S grant recipients that are not fire departments are not eligible to receive a waiver of their cost share or economic hardship requirements.

System for Award Management (SAM)

On July 29, 2010, the Central Contractor Registration (CCR) was moved into the System for Award Management (SAM). The Office of Management and Budget (OMB) issued guidance to federal agencies requiring all prime recipients of federal grants to register in SAM. SAM is the primary vendor database for the Federal Government to collect, validate, store, and disseminate data from a secure centralized system. SAM consolidated the capabilities found in CCR and other federal procurement systems into one new system.

There is no charge to register in SAM.gov. Registrations must be completed on-line at https://www.sam.gov/portal/public/SAM/. The applicant organization is responsibile for having a valid Dun and Bradstreet (DUNS) number at the time of registration. Organizations with an active record in CCR have an active record in SAM, but may need to validate their information. For registration, go to https://www.sam.gov/portal/public/SAM/.

Application Process

Applicants may only submit one (1) application, but may submit for up to three (3) projects under each activity (FP&S and R&D). Any applicant that submits more than one (1) application may have all applications for any duplicated request(s) deemed ineligible.

Under the FP&S Activity, applicants may apply under the following categories:

• Community Risk Reduction

• Fire & Arson Investigation

• Code Enforcement/Awareness

• National/State/Regional Programs and Studies

Under the R&D Activity, applicants may apply under the following categories:

• Clinical Studies

• Technology and Product Development

• Database System Development

• Dissemination and Implementation Research

• Preliminary Studies

Prior to the start of the FY 2016 FP&S Grant Program application period, FEMA will provide applicants with technical assistance tools (available at the AFG Web site: www.fema.gov/firegrants) and other online information to help them prepare quality grant applications. AFG will also staff a Help Desk throughout the application period to assist applicants with navigation through the automated application as well as assistance with any questions they have. Applicants can reach the AFG Help Desk through a toll-free telephone number (1-866-274-0960) or electronic mail (firegrants@dhs.gov).

Applicants are advised to access the application electronically at https://portal.fema.gov. The application also will be accessible from the grants.gov Web site (http://www.grants.gov). New applicants are required to register and establish a username and password for secure access to their application. Applicants that applied to any previous AFG or Staffing for Adequate Fire and Emergency Response (SAFER) funding opportunities were required to use their previously established usernames and passwords.

In completing an application under this funding opportunity, applicants will be asked to provide relevant information on their organization's characteristics and existing capabilities. Those applicants are asked to answer questions about their grant request that reflect the funding priorities, described below. In addition, each applicant will complete narratives for each project or grant activity requested.

The following are the funding priorities for each category under the FP&S Activity:

• Community Risk Reduction—Under the Community Risk Reduction category there are two funding priorities:

○ Priority will be given to programs that target high risk population to conduct both door-to-door smoke alarm installations and provide home safety inspections (including sprinkler awareness), as part of a comprehensive home fire safety campaign.

○ Priority will also be given to programs that include sprinkler awareness that affect the entire community, such as educating the public about residential sprinklers, promoting residential sprinklers, and demonstrating working models of residential sprinklers.

• Code Enforcement/Awareness—projects that focus on first time or reinstatement of code adoption and code enforcement.

• Fire & Arson Investigation—projects that aim to aggressively investigate every fire.

• National/State/Regional Programs and Studies—projects that focus on residential fire issues and/or firefighter behavior and decision-making.

Under the R&D Activity, in order to identify and address the most important elements of firefighter safety, FEMA looked to the fire service for its input and recommendations. In June 2005, the National Fallen Firefighters' Foundation (NFFF) hosted a working group to facilitate the development of an agenda for the nation's fire service, and in particular for firefighter safety. In November 2015, the NFFF hosted their third working group to update the agenda with current priorities. A copy of the research agenda is available on the NFFF Web site at http://www.everyonegoeshome.com/resources/research-symposium-reports/.

Projects that meet the intent of this research agenda with respect to firefighter health and safety, as identified by the NFFF working group, will be given consideration under the R&D Activity. However, the applicant is not limited to these specific projects. All proposed projects, regardless of whether they have been identified by this working group, will be evaluated on their relevance to firefighter health and safety, and scientific rigor.

The electronic application process will permit the applicant to enter and save the application data. The system does not permit the submission of incomplete applications. Except for the narrative textboxes, the application will use a “point-and-click” selection process or require the entry of data (e.g., name and address). Applicants will be encouraged to read the FP&S Funding Opportunity Announcement for more details.

Criteria Development Process

Each year, DHS convenes a panel of fire service professionals to develop the funding priorities and other implementation criteria for AFG. The Criteria Development Panel is comprised of representatives from nine major fire service organizations who are charged with making recommendations to FEMA regarding the creation of new funding priorities, the modification of existing funding priorities, and the development of criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2016 criteria development panel meeting occurred November 9-10, 2015. The content of the FY 2016 FP&S Notice of Funding Oportunity reflects the implementation of the Criteria Development Panel's recommendations with respect to the priorities, direction, and criteria for awards. All of the funding priorities for the FY 2016 FP&S Grant Program are designed to address the following:

• First responder safety

• Enhancing national capabilities

• Risk

• Interoperability

Changes for FY 2016

FY 2016 FP&S Notice of Funding Opportunity Announcement

(1) Under the Fire Prevention and Safety Activity, the General Education Awareness Category has been revised and is now called the Community Risk Reduction Category. The priorities and eligible activities remain the same.

Application Review Process and Considerations

The program's authorizing statute requires that each year DHS publish in the Federal Register a description of the grant application process and the criteria for grant awards. This information is provided below.

DHS will review and evaluate all FP&S applications submitted using the funding priorities and evaluation criteria described in this document, which are based on recommendations from the AFG Criteria Development Panel.

Peer Review Process

Technical Evaluation Process—Fire Prevention and Safety Activity

All eligible applications will be evaluated by a Technical Evaluation Panel (TEP). The TEP is comprised of a panel of Peer Reviewers. The TEP will assess each application's merits with respect to the detail provided in the Narrative Statement on the activity, including the evaluation elements listed in the Evaluation Criteria identified above.

The panel of Peer Reviewers will independently score each project within the application, discuss the merits and/or shortcomings of the application, and document the findings. A consensus is not required. The highest ranked applications will receive further technical review to assess strengths and weaknesses, how readily weaknesses may be resolved, and the likely impact of the proposed activities on the safety of the target audience.

Technical Evaluation Process—Research and Development Activity

R&D applications will go through a two-phase review process. First, all applications will be reviewed by a panel of fire service experts to assess relevance, meaning the likely impact of the proposed R&D application to enable improvement in firefighter safety, health, or wellness. They will also assess the need for the research results and the likelihood that the results would be implemented by the fire service in the United States. Applications that are deemed likely to be implemented to enable improvement in firefighter safety, health, or wellness will then receive further consideration by a science review panel. This panel will be comprised of scientists and technology experts who have expertise pertaining to the subject matter of the proposal.

Reviewers will independently score applications and, if necessary, discuss the merits or shortcomings of the application in order to reconcile any major discrepancies identified by the reviewers. A consensus is not required.

With input from these panels, for the highest ranked applications, FEMA will review each application's strengths and weaknesses, how best the strengths fit the priorities of the FP&S Grant Program, and how readily the weaknesses may be resolved to support likely impact of the project to improve firefighter safety, heath, or wellness.

Technical Review Process

Projects receiving the highest scores then will undergo a technical review by a subject matter specialist to assess the technical feasibility of the project and a programmatic review to assess eligibility and other factors.

After the completion of the technical reviews, DHS will select a sufficient number of awardees from this application period to obligate all of the available grant funding. It will evaluate and act on applications within 90 days following the close of the application period. Award announcements will be made on a rolling basis until all available grant funds have been committed. Awards will not be made in any specified order. DHS will notify unsuccessful applicants as soon as it is feasible.

Evaluation Criteria for Projects—Fire Prevention and Safety Activity

Funding decisions will be informed by an assessment of how well the application addresses the criteria and considerations listed below. Applications will be reviewed by the TEP using weighted evaluation criteria to score the project. These scores will impact the ranking of a project for funding.

The relative weight of the evaluation criteria in the determination of the grant award is listed below.

• Financial Need (10%): Applicants should provide details on the need for financial assistance to carry out the proposed project(s). Included in the description might be other unsuccessful attempts to acquire financial assistance or specific examples of the applicant's operational budget.

• Vulnerability Statement (25%): The assessment of fire risk is essential in the development of an effective project goal, as well as meeting FEMA's goal to reduce risk by conducting a risk analysis as a basis for action. Vulnerability is a “weak link” demonstrating high risk behavior, living conditions or any type of high risk situation or behavior. The Vulnerability Statement should include a description of the steps taken to determine the vulnerability (weak link) and identify the target audience. The methodology for determination of vulnerability (how you found the weak link) should be discussed in-depth in the application's Narrative Statement.

○ The specific vulnerability (weak link) that will be addressed with the proposed project can be established through a formal or informal risk assessment. FEMA encourages the use of local statistics, rather than national statistics, when discussing the vulnerability.

○ The applicant should summarize the vulnerability (weakness) the project will address in a clear, to-the-point statement that addresses who is at risk, what the risks are, where the risks are, and how the risks can be prevented.

○ For the purpose of the FY 2016 FP&S NOFO, formal risk assessments consist of the use of software programs or recognized expert analysis that assess risk trends.

○ Informal risk assessments could include an in-house review of available data (e.g., National Fire Incident Reporting System) to determine fire loss, burn injuries or loss of life over a period of time, and the factors that are the cause and origin for each occurrence.

• Implementation Plan (25%): Projects should provide details on the implementation plan which discusses the proposed project's goals and objectives. The following information should be included to support the implementation plan:

○ Goals and objectives.

○ Details regarding the methods and specific steps that will be used to achieve the goals and objectives.

○ Timelines.

○ Where applicable, examples of marketing efforts to promote the project, who will deliver the project (e.g., effective partnerships), and the manner in which materials or deliverables will be distributed.

○ Requests for props (i.e., tools used in educational or awareness demonstrations), including specific goals, measurable results, and details on the frequency for which the prop will be utilized as part of the implementation plan. Applicants should include information describing the efforts that will be used to reach the high risk audience and/or the number of people reached through the proposed project.

• Evaluation Plan (25%): Projects should include an evaluation of effectiveness and should identify measurable goals. Applicants seeking to carry out awareness and educational projects, for example, should identify how they intend to determine that there has been an increase in knowledge about fire hazards, or measure a change in the safety behaviors of the audience. Applicants should demonstrate how they will measure risk at the outset of the project in comparison to how much the risk decreased after the project is finished. There are various ways to measure the knowledge gained including the use of surveys, pre- and post-tests or documented observations.

• Cost-Benefit (10%): Projects will be evaluated based on how well the applicant addresses the fire prevention needs of the department or organization in an economic and efficient manner. It should show how to maximize the level of funding that goes directly into the delivery of the project. The costs associated with the project must also be reasonable for the target audience that will be reached, and a description of how the anticipated benefit(s) of their projects outweighs the cost(s) of the requested item(s) should be included. Providing justification for costs assists the Technical Evaluation Panel with this review.

• Funding Priorities (5%): Applicants will be evaluated on whether or not the proposed project meets the stated funding priority (listed below) for the applicable category.

○ Community Risk Reduction Priority: Comprehensive home fire safety campaign with door-to-door smoke alarm installations or residential sprinkler awareness projects/activities.

○ Fire/Arson Investigation Priority: Projects that aim to aggressively investigate every fire.

○ Code Enforcement/Awareness Priority: Projects that focus on first time or reinstatement of code adoption and code enforcement.

○ National/State/Regional Programs and Studies Priority: Projects that focus on residential fire issues, and/or firefighter safety projects or strategies that are designed to measureably change firefighter behavior and decision-making.

• Experience and Expertise (additional consideration): Applicants that demonstrate their experience and ability to conduct fire prevention and safety activities, and to execute the proposed or similar project(s), will receive additional consideration.

Evaluation Criteria—Firefighter Safety Research and Development Activity

Funding decisions will be informed by an assessment of how well the application addresses the criteria and considerations listed below.

All applications will reviewed by a fire service expert panel using weighted evaluation criteria, and those applications deemed to be in the “competitive range” will then be reviewed by a scientific peer review panel evaluation using weighted evaluation criteria to score the project. Scientific evaluations will impact the ranking of the project for funding.

In addition, other Science Panel considerations are indicated in the list below:

Fire Service Evaluation Criteria

• Purpose (25%): Applicants should clearly identify the benefits of the proposed research project to improve firefighter safety, health, or wellness, and identify specific gaps in knowledge that will be addressed.

• Implementation by Fire Service (25%): Applicants should discuss how the outcomes/products of this research, if successful, are likely to be widely/nationally adopted and accepted by the fire service as changes that enhance firefighter safety, health, or wellness.

• Potential Impact (15%): Applicants should discuss the potential impact of the research outcome/product on firefighter safety by quantifying the possible reduction in the number of fatal or non-fatal injuries, or on wellness by significantly improving the overall health of firefighters.

• Barriers (15%): Applicants should recognize that all research contains some level of risk and that the proposed outcomes may not be realized. The applicant needs to identify and discuss potential fire service and other barriers to successfully complete the study on schedule, including contingencies and strategies to deal with barriers if they materialize. This may include barriers that could inhibit the proposed fire service participation in the study or the adoption of successful results by the fire service when the project is completed.

• Partners (20%): Applicants should recognize that participation of the fire service as a partner in the research, from development to dissemination, is regarded as an essential part of all projects. Applicants should describe the fire service partners and contractors that will support the project to accomplish the objectives of the study. The specific roles and contributions of the partners should be described. Partnerships may be formed with local and regional fire departments, and also with national fire-related organizations. Letters of support and letters of commitment to actively participate in the project should be included in the appendix of the application. Generally, participants of a diverse population, including both career and volunteer firefighters, are expected to facilitate acceptance of results nationally. In cases where this is not practical, due to the nature of the study or other limitations, these circumstances should clearly be explained.

Science Panel Evaluation Criteria

• Project goals, objectives, and specific aims (15%): Applicants should address how the purpose, goals, objectives, and aims of the proposal will lead to results that will improve firefighter safety, health, or wellness. For multi-year projects, greater detail should be given for the first year.

• Literature Review (10%): Applicants should provide a literature review that is relevant to the project's goals, objectives, and specific aims. The citations should be placed in the text of the narrative statement, with references listed at the end of the Narrative Statement (and not in the Appendix) of the application. The review should be in sufficient depth to make it clear that the proposed project is necessary, adds to an existing body of knowledge, is different from current and previous studies, and offers a unique contribution.

• Project Methods (20%): Applicants should provide a description of how the project will be carried out, including demonstration of the overall scientific and technical rigor and merit of the project. This includes the operations to accomplish the purpose, goals and objectives, and the specific aims of the project. Plans to recruit and retain human subjects, where applicable, should be described. Where human subjects are involved in the project, the applicant should describe plans for submission to the Institutional Review Board (IRB) (for further guidance and requirements, see Appendix B—Programmatic Information and Priorities, Section IV of the FY 2016 FP&S NOFO. Other Eligible Project and Ineligible Projects and Costs, Section B. Research and Development Project Eligibility Information, Section i. Human Subject Research).

• Project Measurements (20%): Applicants should provide evidence of the technical rigor and merit of the project, such as data pertaining to validity, reliability, and sensitivity (where established) of the facilities, equipment, instruments, standards, and procedures that will be used to carry out the research. The applicant should discuss the data to be collected to evaluate the performance methods, technologies, and products proposed to enhance firefighter safety, health, or wellness. The applicant should demonstrate that the measurement methods and equipment selected for use are appropriate and sufficient to successfully deliver the proposed project objectives.

• Project Analysis (20%): The applicant should indicate the planned approach for analysis of the data obtained from measurements, questionnaires, or computations. The applicant should specify within the plan what will be analyzed, the statistical methods that will be used, the sequence of steps, and interactions as appropriate. It should be clear that the Principal Investigator (PI) and research team have the expertise to perform the planned analysis and defend the results in a peer review process.

• Dissemination and Implementation (15%): Applicants should indicate dissemination plans for scientific audiences (such as plans for submissions to specific peer review publications) and for firefighter audiences (such as Web sites, magazines, and conferences). Also, assuming positive results, the applicant should indicate future steps that would support dissemination and implementation throughout the fire service, where applicable. These steps are likely to be beyond the current study, so those features of the research activity that will facilitate future dissemination and implementation should be discussed. All applicants should specify how the results of the project, if successful, might be disseminated and implemented in the fire service to improve firefighter safety, health, or wellness. It is expected that successful R&D Activity Projects may give rise to future programs including FP&S Activity Projects.

• Cost vs. Benefit (additional consideration): Cost vs. benefit in this evaluation element refers to the costs of the grant for the research and development project as it relates to the benefits that are projected for firefighters who would have improved safety, health, or wellness. Applicants should demonstrate a high benefit for the cost incurred, and effective utilization of federal funds for research activities.

• Financial Need (additional consideration): In the Applicant Information section of the application, applicants should provide details on the need for federal financial assistance to carry out the proposed project(s). Applicants may include a description of unsuccessful attempts to acquire financial assistance. Applicants should provide detail about the organization's operating budget, including a high-level breakdown of the budget; describe the department's inability to address financial needs without federal assistance; and discuss other actions the department has taken to meet their staffing needs (e.g., state assistance programs, other grant programs, etc.).

Other Selection Information

Awards will be made using the results of peer-reviewed applications as the primary basis for decisions, regardless of activity. However, there are some exceptions to strictly using the peer review results. The applicant's prior AFG, SAFER, and FP&S grant management performance will also be taken into consideration when making recommendations for award. All final funding determinations will be made by the Administrator of FEMA, or the Administrator's designee.

Fire departments and other eligible applicants that have received funding under the FP&S Grant Program in previous years are eligible to apply for funding in the current year. However, DHS may take into account an applicant's performance on prior grants when making funding decisions on current applications.

Once every application in the competitive range has been through the technical evaluation phase, the applications will be ranked according to the average score awarded by the panel.

The ranking will be summarized in a Technical Report prepared by the AFG Program Office. A Grants Management Specialist will contact the applicant to discuss and/or negotiate the content of the application and SAM.gov registration before making final award decisions.

Authority: 15 U.S.C. 2229.

Robert J. Fenton, Jr.,
Acting Administrator, Federal Emergency Management Agency.

[FR Doc. 2017-10364 Filed 5-19-17; 8:45 am]

BILLING CODE 9111-64-P